DEPARTMENT OF COMMERCE

National Oceanic and Atmospheric Administration

50 CFR Part 648

[Docket No. 120109034-2171-01]

RIN 0648-XF471

Fisheries of the Northeastern United States; Small-Mesh Multispecies Fishery; Adjustment to the Northern Red Hake Inseason Possession Limit

AGENCY: National Marine Fisheries Service (NMFS), National Oceanic and Atmospheric Administration (NOAA), Commerce.

ACTION: Temporary rule; inseason adjustment.

SUMMARY: We announce the reduction of the commercial per-trip possession limit for northern red hake for the remainder of the 2017 fishing year. This action is required to prevent the northern red hake total allowable landing limit from being exceeded. This announcement informs the public that the northern red hake possession limit is reduced from 3,000 lb (1,361 kg) to 400 lb (181 kg).

DATES: Effective August 7, 2017, through April 30, 2018.

FOR FURTHER INFORMATION CONTACT: Reid Lichwell, Fishery Management Specialist, 978-675-9112.

SUPPLEMENTARY INFORMATION:

Background

Regulations governing the red hake fishery are found at 50 CFR part 648. The small-mesh multispecies fishery is managed primarily through a series of exemptions from the Northeast Multispecies Fisheries Management Plan. The regulations describing the process to adjust inseason commercial possession limits of northern red hake are described in § 648.86(d)(4) and (5). These regulations require the NMFS Regional Administrator, Greater Atlantic Region, to reduce the northern red hake possession limit from 3,000 lb (1,361 kg) to 400 lb (181 kg) when landings have been projected to reach or exceed 37.9 percent of the total allowable landings (TAL), unless such a reduction would be expected to prevent the TAL from being reached. The final rule implementing the small-mesh multispecies specifications for 2016-2017 (81 FR 41866; June 28, 2015) set the northern red hake inseason adjustment thresholds. Those thresholds were revised in the final rule implementing the 2017 northern red hake accountability measures (82 FR 21477; May 9, 2017), which reduce the inseason possession limit reduction threshold from 62.5 percent to 37.9 percent of the TAL and removed an additional threshold at 45 percent. This trip limit adjustment threshold is an accountability measure implemented because the annual catch limits (ACL) for northern red hake were exceeded in fishing year 2015.

Inseason Action

Using commercial landings data reported through August 3, 2017, the northern red hake fishery is projected to reach 37.9 percent of the TAL on August 7, 2017. Based on this projection, we are required to reduce the commercial northern red hake possession limit from 3,000 lb (1,361 kg) to 400 lb (181 kg) to prevent the TAL from being exceeded. On the effective date of this action, no person may possess on board or land more than 400 lb (181 kg) of northern red hake per trip for the remainder of the fishing year (i.e., through April 30, 2018).

Classification

This action is taken under 50 CFR part 648 and is exempt from review under Executive Order 12866.

Authority: 16 U.S.C. 1801 et seq.

Dated: August 4, 2017.
Emily H. Menashes,
Acting Director, Office of Sustainable Fisheries, National Marine Fisheries Service.

[FR Doc. 2017-16850 Filed 8-7-17; 4:15 pm]

BILLING CODE 3510-22-P